NUCLEAR REGULATORY COMMISSION

Advisory Committee on Reactor Safeguards; Meeting of the ACRS Subcommittee on Digital Instrumentation & Control (DI&C); Revision to February 23, 2011, ACRS Meeting Federal Register Notice

The Federal Register Notice for the ACRS Subcommittee Meeting on Digital Instrumentation & Control (DI&C) scheduled to be held on February 23, 2011, is being revised to notify the following:

The meeting will be open to public attendance with exception of portions that may be closed to protect unclassified safeguards information or information that is proprietary to pursuant to 5 U.S.C. 552b(c)(3) and (4).

The notice of this meeting was previously published in the Federal Register on Friday, February 11, 2011, [75 FR 7882]. All other items remain the same as previously published.

Further information regarding this meeting can be obtained by contacting Christina Antonescu, Designated Federal Official (Telephone: 301-415-6792, E-mail: Christina.Antonescu@nrc.gov) between 7:30 a.m. and 5:15 p.m. (ET).

Dated: February 15, 2011.
Yoira Diaz-Sanabria,
Acting Chief, Reactor Safety Branch B, Advisory Committee on Reactor Safeguards.

[FR Doc. 2011-3852 Filed 2-18-11; 8:45 am]

BILLING CODE 7590-01-P